ENVIRONMENTAL PROTECTION AGENCY

40 CFR Part 180

[EPA-HQ-OPP-2015-0032; FRL-9950-22]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before September 28, 2016.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 5E8432. (EPA-HQ-OPP-2016-0299). Dow AgroSciences LLC, 9330 Zionsville Road, Indianapolis, IN 46268, requests to establish an import tolerance in 40 CFR part 180 for residues of the cloquintocet-mexyl (acetic acid [(5-chloro-8-quniolinyl)oxyl]-1-methylhexyl ester) (CAS Reg. No. 99607-70-2) and its acid metabolite (5-chloro-8-quinlinoxyacetic acid) for use as an inert ingredient (safener) in combination with the herbicide pyroxsulam in or on teff, forage at 0.2 parts per million (ppm); teff, grain at 0.1 ppm; teff hay at 0.5 ppm; teff straw at 0.1 ppm. The High Performance Liquid Chromatography with Ultraviolet Detection (HPLC-UV) method REM 138.01 is used to measure and evaluate residues of the cloquintocet-mexyl (parent) and the HPLC-UV Method RED 138.10 allows determination of its acid metabolite (also known as CGA-153433) for the proposed uses. Contact: RD.

2. PP 5E8433. (EPA-HQ-OPP-2016-0143). Syngenta Crop Protection, LLC, 410 Swing Road, P.O. Box 18300, Greensboro, NC 27419-8300, requests to establish a tolerance in 40 CFR part 180.654 for residues of the fungicide, isopyrazam in or on tomato at 0.5 parts per million (ppm), pepper, bell at 0.6 ppm, and cucurbit crop subgroup 9A at 0.3 ppm. The GRM006.01B validation method is used to measure and evaluate the chemical isopyrazam, analyzed as the isomers SYN534968 and SYN534969. Contact: RD.

3. PP 5E8366. (EPA-HQ-OPP-2016-0380). BASF Corporation, 26 Davis Drive, Research Triangle Park, NC 27709-3528, requests to establish tolerances in 40 CFR part 180 for residues of the fungicide, fluxapyroxad in or on banana at 3.0 parts per million (ppm); coffee, green bean at 0.2 ppm; mango at 0.7 ppm; and papaya at 0.6 ppm. Independently validated methods have been used to measure and evaluate parent fluxapyroxad, BAS 700F plus metabolites M700F008, M700F048, and M700F002. Contact: RD.

4. PP 5F8381. (EPA-HQ-OPP-2015-0722). Bayer CropScience, P.O. Box 12014, 2 T.W., Alexander Drive, Research Triangle Park, NC 27709, requests to establish a tolerance in 40 CFR part 180.626 for residues of the fungicide, prothioconazole in or on cotton, gin by-products at 4.0 parts per million (ppm). The liquid chromatography/mass spectrometry (LC/MS/MS) is used to measure and evaluate the chemical prothioconazole. Contact: RD.

5. PP 6F8461. (EPA-HQ-OPP-2016-0255). Bayer CropScience, P.O. Box 12014, Research Triangle Park, NC 27709, requests to establish a tolerance in 40 CFR part 180 for residues of the insecticide spirotetramat in or on sugar beet, root at 0.15 ppm; and sugar beet, molasses at 0.20 ppm. The high pressure liquid chromatography/triple stage quadrupole mass spectrometry (LC/MS/MS) analytical method is used to measure and evaluate the chemical spirotetramat. Contact: RD.

Amended Tolerances

1. PP 5F8400. (EPA-HQ-OPP-2015-0695). Isagro S.P.A. (d/b/a Isagro USA, Inc.), 430 Davis Drive, Suite 240, Morrisville, NC 27560, requests to amend the tolerances in 40 CFR 180.557 for residues of the fungicide tetraconazole in or on beet sugar, dried pulp at 0.20 parts per million (ppm), beet sugar, molasses at 0.25 ppm, and beet sugar, root at 0.15 ppm. The capillary gas chromatography with electron capture detector (GC/ECD)) as well as a QuEChERS multi-residue method (LC/MS-MS detection) is used to measure and evaluate the chemical tetraconazole. Contact: RD.

2. PP 6F8465. (EPA-HQ-OPP-2016-0307). Nichino America, Inc., 4550 New Linden Hill Road, Suite 501, Wilmington, DE 19808, requests to amend the tolerances in 40 CFR 180.566 for residues of the insecticide fenpyroximate in or on fruit, citrus, Group 10-10 at 1.0 parts per million (ppm), citrus dried pulp at 4.0 ppm, and citrus oil at 14 ppm. The high performance liquid chromatography using tandem mass spectrometric detection (LC/MS/MS) is used to measure and evaluate the chemical fenpyroximate and the M-1 Metabolite. Contact: RD.

New Tolerance Exemptions

1. PP 6F8444. (EPA-HQ-OPP-2016-0348). Marrone Bio Innovations, 1540 Drew Ave., Davis, CA 95618, requests to establish an exemption from the requirement of a tolerance in 40 CFR part 180 for residues of the bactericide and fungicide Bacillus amyloliquefaciens strain F727 in or on all food commodities. The petitioner believes no analytical method is needed because when used as proposed, Bacillus amyloliquefaciens strain F727 would not result in residues that are of toxicological concern. Contact: BPPD.

2. PP 6F8459. (EPA-HQ-OPP-2016-0259). Spring Trading Co., 203 Dogwood Trl., Magnolia, TX 77354 (on behalf of CH Biotech R&D Co. Ltd., No. 121 Xian An Rd., Xianxi Township, Changhua County 50741 Taiwan R.O.C.), requests to establish an exemption from the requirement of a tolerance in 40 CFR part 180 for residues of the plant regulator 1-Triacontanol in or on raw agricultural commodity growing crops on in products to treat animals. The petitioner believes no analytical method is needed because the 10X standard safety factor is unnecessary for 1-Triacontanol since it is a compound found in plant cuticle waxes and beeswax. Contact: BPPD.

3. PP IN-10851. (EPA-HQ-OPP-2016-0378). Technology Sciences Group, 1150 18th Street, Suite 1000, Washington, DC 20036, on behalf of Jeneil Biosurfactant Company, 400 N. Dekora Woods Blvd., Saukville, WI 53080, requests to establish an exemption from the requirement of a tolerance for residues of isoamyl acetate (CAS Reg. No. 123-92-2) when used as an inert ingredient (solvent) in pesticide formulations applied to growing crops and raw agricultural commodities after harvest under 40 CFR 180.910. The petitioner believes no analytical method is needed because the request is for an exemption from the requirements of a pesticide tolerance. Contact: RD.

Authority: 21 U.S.C. 346a.

Dated: August 16, 2016.
Michael Goodis,
Acting Director, Registration Division, Office of Pesticide Programs.

[FR Doc. 2016-20653 Filed 8-26-16; 8:45 am]

BILLING CODE 6560-50-P